DEPARTMENT OF EDUCATION

[CFDA Nos.: 84.224C and 84.235T]

Alternative Financing Mechanism Program and Access to Telework Fund Program; Notice Inviting Applications for New Awards for Fiscal Year (FY) 2003

Purpose of Program: This notice invites applications for two programs: the Alternative Financing Mechanisms Program (AFP) under title III of the Assistive Technology Act of 1998 (AT Act) that is administered by the National Institute on Disability and Rehabilitation Research (NIDRR) and the Access to Telework Fund Program (Telework) under section 303(b) of the Rehabilitation Act of 1973, as amended (Rehab Act), that is administered by the Rehabilitation Services Administration (RSA).

It is the policy of the Department of Education not to solicit applications before the publication of final priorities. However, in this case it is essential to solicit applications on the basis of the notice of proposed priority, definitions, and application and project requirements published elsewhere in this issue of the Federal Register, because the Department's authority to obligate these funds will expire on September 30, 2003. Applicants should base their applications on the proposed priority, definitions, and application and project requirements. If changes are made in the final notice in response to public comments or other considerations, applicants will be given an opportunity to revise or resubmit their applications.

SUPPLEMENTARY INFORMATION: Funds under these competitions will be used to support projects in FY 2003.

States may jointly apply for and administer an AFP grant and a Telework grant. These States must meet the requirements for each priority and will compete separately under each priority. Alternatively, States may apply for either the AFP or the Telework grant, or both, to be administered separately. In addition, Indian tribes are eligible to apply for Telework grants.

Priorities

Absolute Priority 1—Alternative Financing Mechanism Program (84.224C)

For FY 2003, this priority is an absolute priority. Under 34 CFR 75.105(c)(3) we consider only applications that meet the priority, definitions, and application and project requirements.

The AFP will award grants to States to pay for the Federal share of the cost of the establishment and administration of, or the expansion and administration of, an AFP featuring one or more alternative financing mechanisms to allow individuals with disabilities and their family members, guardians, advocates, and authorized representatives to purchase AT devices and AT services.

Eligible Applicants: States that receive or have received grants under section 101 of the AT Act are eligible for an AFP grant. Under section 3(a)(13)(A) of the AT Act, State means each of the several States of the United States, the District of Columbia, the Commonwealth of Puerto Rico, the United States Virgin Islands, Guam, American Samoa, and the Commonwealth of the Northern Mariana Islands.

Applicable Regulations: The Education Department General Administrative Regulations (EDGAR) in 34 CFR parts 75, 77, 80, 81, 82, and 85.

Selection Criteria

In evaluating an application for a new grant under this competition, we will determine if an applicant has submitted the required assurances.

Absolute Priority 2—Access to Telework Fund Program (84.235T)

For FY 2003, this priority is an absolute priority. Under 34 CFR 75.105(c)(3) we consider only applications that meet the priority, definitions, and application and project requirements.

The Access to Telework Fund Program will award grants to States and Indian Tribes to pay for the Federal share of the cost of the establishment and administration of an Access to Telework Fund featuring one or more alternative financing mechanisms to allow individuals with disabilities access to computers and other needed equipment not provided by an employer to enable them to telework from home or other remote sites.

Eligible Applicants: States as defined in the AT Act and governing bodies of American Indian tribes located on Federal and State reservations consistent with section 7(19)(B) of the Rehab Act are eligible for a Telework grant. Consortia of States and American Indian tribes are also eligible for a Telework grant.

Applicable Regulations: The Education Department General Administrative Regulations (EDGAR) in 34 CFR parts 75, 77, 80, 81, 82, and 85

Selection Criteria

In evaluating an application for a new grant under this competition, we will determine if an applicant has submitted the required assurances.

Alternative Financing Mechanism Program and Access to Telework Fund Program CFDA Nos. 84.224C and 84.235T
[Applications for FY 2003]
CFDA No. program name | Application available | Deadline for transmittal of applications | Estimated range of awards | Estimated number of awards* | Project period (months)
84.224C Alternative Financing Mechanism Program. | Aug. 5, 2003. | Sept. 4, 2003 | $500,000-2,000,000 | 24 | As long as the program originally funded by the AFP award is in operation (section 303(b)(2) of the AT Act).
84.235T Access to Telework Fund Program. | Aug. 5, 2003. | Sept. 4, 2003 | $250,000-1,000,000 | 40 | As long as the program originally funded by the Telework award is in operation.
*The Department is not bound by any estimates in this notice.

For Applications Contact: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs via its Web site: http://www.ed.gov/pubs/edpubs.html; or you may contact ED Pubs at its e-mail address: edpubs@inet.ed.gov.

If you request an application from ED Pubs, be sure to identify these competitions as follows: CFDA number 84.224C (AFP) and 84.235T (Telework).

Individuals with disabilities may obtain a copy of the application package in an alternative format by contacting the Grants and Contracts Services Team, U.S. Department of Education, 400 Maryland Avenue, SW., room 3317, Switzer Building, Washington, DC 20202-2550. Telephone: (202) 205-8207. If you use a telecommunications device for the deaf (TDD), you may call the Federal Information Relay Service (FIRS) at 1-800-877-8339. However, the Department is not able to reproduce in an alternative format the standard forms included in the application package.

FOR FURTHER INFORMATION CONTACT: Carol G. Cohen. Telephone: (202) 205-5666 or via the Internet: carol.cohen@ed.gov.

If you use a telecommunications device for the deaf (TDD), you may call the TDD number at (202) 205-4475.

Individuals with disabilities may obtain this document in an alternative format (e.g., Braille, large print, audiotape, or computer diskette) on request to the contact person listed under FOR FURTHER INFORMATION CONTACT.

Application Procedures

The application procedures for these priorities are found in the application package.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 29 U.S.C. 773(b) and 29 U.S.C. 3051-3056.

Dated: July 31, 2003.
Robert H. Pasternack,
Assistant Secretary for Special Education and Rehabilitative Services.

[FR Doc. 03-19845 Filed 8-4-03; 8:45 am]

BILLING CODE 4000-01-P